FEDERAL COMMUNICATIONS COMMISSION

[FRS 17438]

Wireless Telecommunications Bureau and Public Safety and Homeland Security Bureau Modify Suspensions of Acceptance and Processing of Certain Part 22 and Part 90 Applications for 470-512 MHz (T-Band) Spectrum

AGENCY: Federal Communications Commission.

ACTION: Notice.

SUMMARY: In this Public Notice, the Public Safety and Homeland Security Bureau and Wireless Telecommunications Bureau (collectively the Bureaus) modify suspensions of acceptance and processing of certain Part 22 and Part 90 applications for 470-512 MHz (T-Band) spectrum.

DATES: The Bureaus issued the Public Notice on January 19, 2021.

FOR FURTHER INFORMATION CONTACT: Brian Marenco, Electronics Engineer, Policy and Licensing Division, Public Safety and Homeland Security Bureau, (202) 418-0838 or via email at Brian.Marenco@fcc.gov, and Joshua Smith, Mobility Division, Wireless Telecommunications Bureau, (717) 338-2502 or via email at Joshua.Smith@fcc.gov.

SUPPLEMENTARY INFORMATION: This is a summary of the Commission's Public Notice, DA 21-82, released on January 19, 2021. The complete text of this document is available for inspection and copying during normal business hours in the FCC Reference Information Center, 45 L Street NE, Washington, DC 20554. Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy. During the time the Commission's building is closed to the general public and until further notice.

1. On January 19, 2021, the Bureaus released a Public Notice seeking to ensure the orderly resumption of application and licensing processes in the T-Band since the Commission is no longer required to reallocate and auction certain frequencies in the T-Band after the signing of the Don't Break Up the T-Band Act into law as part of the Consolidated Appropriations Act, 2021. The Bureaus announced that in the 30 days immediately following release of the Public Notice, they would resume processing T-Band applications for renewal of license and all other pending T-Band applications; but dismiss without prejudice any pending application that includes a request for waiver of the application freeze.

2. The Bureaus also indicated that following the 30-day processing period, applicants and frequency coordinators will have a 30-day period to prepare and begin pre-coordination of certain new applications. Immediately thereafter, for a ninety-day period, i.e., from March 22, 2021 until June 21, 2021, the Bureaus announced that they will accept certain types of applications but only from incumbent licensees.

3. Band applications established in the Public Notice are procedural in nature, and therefore not subject to the notice and comment and effective date requirements of the Administrative Procedure Act. Moreover, the Bureaus found good cause for not delaying the effect of the modifications until after publication of the Public Notice in the Federal Register. The Bureaus indicated that such a delay is unnecessary and contrary to the public interest because, without good reason, it would impede timely access to T-Band channels to applicants that require new or enhanced communications services.

Federal Communications Commission.
Marlene Dortch,
Secretary, Office of the Secretary.

[FR Doc. 2021-03426 Filed 2-18-21; 8:45 am]

BILLING CODE 6712-01-P